DEPARTMENT OF DEFENSE

Department of the Army

Final Programmatic Environmental Impact Statement (FPEIS) on Transportable Treatment Systems for Non-Stockpile Chemical Warfare Materiel

AGENCY: Department of the Army, DoD.

ACTION: Notice of availability.

SUMMARY: This FPEIS has been prepared by the Army in compliance with the National Environmental Policy Act of 1969, regulations of the President's Council on Environmental Quality (40 CFR 1500-1508), and Army Regulation 200-2. As the Executive Agent for the DoD, the Army is responsible for destroying that portion of the nation's chemical warfare materiel referred to as “non-stockpile” chemical warfare materiel. This non-stockpile chemical warfare materiel must be destroyed in order to protect human health and safety and the environment, comply with an international treaty, and carry out the mandate of the Congress. Non-stockpile chemical warfare materiel covered under this FPEIS includes: (1) Munitions containing chemical warfare agent or industrial chemicals, (2) chemical warfare agents or industrial chemicals contained in other than munitions configurations, and (3) chemical agent identification set items containing small qualities of pure or diluted agent used for training purposes. These items are currently buried and have the potential to be recovered at a number of locations in the United States and its territories and possessions. In addition, materiel has been recovered and is currently stored at several military installations throughout the United States.

DATES: Written public comments received within 30 days of the publication of the Environmental Protection Agency's Notice of Availability will be considered by the Army during final decision making.

ADDRESSES: Questions on the FPEIS or requests for copies of the document should be directed to: Program Manager for Chemical Demilitarization, ATTN: SFAE-CD-NP (Mr. John K. Gieseking/PEIS), Aberdeen Proving Ground, Maryland 21010-4005 or via e-mail at john.gieseking@pmcd.apgea.army.mil.

FOR FURTHER INFORMATION CONTACT: Mr. John Gieseking at (410) 436-3768 or by fax at (410) 436-8737.

SUPPLEMENTARY INFORMATION: The Army has to decide whether it wants to complete development of transportable treatment systems and make the systems available for deployment in the field. The purpose of the FPEIS is to help the Army make this program-level decision with input from the public. The Army's Product Manager for Non-Stockpile Chemical Materiel has analyzed the potential environmental and socioeconomic consequences of two alternative courses of action in the FPEIS with respect to the Army's chemical demilitarization responsibilities. These alternatives are: (1) Completing development and testing of the transportable chemical treatment systems and making them available to be used where needed and appropriate to process non-stockpile chemical warfare materiel. Part of this alternative includes continuing to assess and evaluate the treatment potential of other technologies, methods, and processes, and (2) the no-action alternative, under which the Army would discontinue the development of the transportable treatment systems and continue to the storage of non-stockpile chemical warfare materiel until other suitable technologies are developed.

The Army's preferred alternative based on information in this FPEIS is to complete development of transportable chemical treatment systems and make them available for deployment. Subsequent environmental reviews by the appropriate DoD authorities would address the impacts of actual deployment to specific locations before a decision to deploy would be made. While the no-action alternative was evaluated, it could lead to the United States violating the Chemical Weapons Convention timetable requirements for destroying currently stored non-stockpile chemical warfare materiel.

A series of public meetings were held at nine locations during the public comment period on the Draft PEIS to afford the public the opportunity to provide oral and written comments. These meetings were held in Alexandria, Louisiana; Anchorage, Alaska; Edgewood, Maryland; Huntsville, Alabama; Indianapolis, Indiana; Salt Lake City, Utah; San Antonio, Texas; Santa Rosa, California; and Tampa, Florida. Comments made at these meetings and written comments received during the comment period were used in preparing the FPEIS.

The most frequent concern expressed in public comments was in regard to the possible treatment of secondary wastes from the transportable systems in commercial incinerators. The Army is presently looking into possible options other than commercial incineration for treating wastes from the transportable systems. Implementing the preferred alternative does not preclude developing these non-incineration options.

Copies of the FPEIS can be obtained by calling the Public Outreach and Information Office of the Office of the Program Manager for Chemical Demilitarization at 1-800-488-0648 or (410) 436-3445; fax (410) 436-8737; or e-mail at john.gieseking@pmcd.apgea.army.mil. The FPEIS may be accessed at the following web site: http://www-pmcd.apgea.army.mil/nscmp/index.html.

Dated: April 30, 2001.
Raymond J. Fatz,
Deputy Assistant Secretary of the Army (Environment, Safety and Occupational Health), OASA(I&E).

[FR Doc. 01-11293 Filed 5-3-01; 8:45 am]

BILLING CODE 3710-08-M